DEPARTMENT OF THE INTERIOR

National Park Service

National Register of Historic Places; Notification of Pending Nominations and Related Actions

Nominations for the following properties being considered for listing or related actions in the National Register were received by the National Park Service before August 13, 2005. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by September 15, 2005.

John W. Roberts,
Acting Chief, National Register/National Historic Landmarks Program.

CONNECTICUT

Fairfield County

New Haven Railroad Danbury Turntable, 120 White St., Danbury, 05001048

Hartford County

Glastonbury—Rock Hill Ferry Historic District, Roughly along Tryon St., Ferry Ln. and Glastonbury Ave., Meadow and Riverview Rds., Glastonbury, 05001046

Robbins, Unni II, House, 1692 Main St., Newington, 05001049

New London County

Greeneville, Roughly along Boswell and Central Aves., Prospect and N. Main Sts., bet. Hickory and 14th Sts., Norwich, 05001047

Oswegatchie Historic District, East St., Riverside, Plant, Park Drs., and Sharwandassee and Oswegatchie Rds, Waterford, 05001043

Walnut Grove, 305 Great Neck Rd., Waterford, 05001044

Windham County

Willimantic Elks Club, 198 Pleasant St., Windham, 05001045

KANSAS

Brown County

Hiawatha Courthouse Square Historic District, 520-819 Oregon, 101-123 S6, 108-124 S7, 601-613 Utah, Hiawatha, 05001052

McPherson County

Schroeder, Heinrich H., Barn, 632 29th Ave., Canton, 05001051

MISSOURI

Jackson County

Cherry Street Colonnades Historic District, (Colonnade Apartment Buildings of Kansas City, MO MPS) 2523,2537,2531,2535,2543,2542, and 2544 Cherry St., Kansas City, 05001050

NEW JERSEY

Essex County

New Jersey Bell Headquarters Building, 540 Broad St., Newark City, 05001054

Gloucester County

Tinicum Island Range Rear Light Station, (Light Stations of the United States MPS) 250 ft. S o jct. of Beacon Ave. and Second St., Billingsport, 05001053

OREGON

Clackamas County

Davis, John and Magdalena, Farm, 13678 S. Spanglar Rd., Oregon City, 05001056

Columbia County

Caples, Dr. Charles G. and Lucinda McBride, Farmstead, 1925 First St., Columbia City, 05001060

Lane County

McCracken Brothers Moto Freight Building, 375 W. 4th St., Eugene, 05001055

Multnomah County

Cardwell-Homan House, 827 NW 25th Ave., Portland, 05001057

Elliott House, 2022 N. Williamette Blvd., Portland, 05001058

Jeffrey, Oliver and Margaret, House, 3033 NE Bryce St., Portland, 05001059

RHODE ISLAND

Washington County

Dunmere, 560 Ocean Rd., Narragansett, 05001061

WASHINGTON

Klickitat County

Trout Lake Tourist Club, 15 Guler Rd., Trout Lake, 05001063

Yakima County

Gendron, OlJ., Ranch, 6702 Bell Rd., Moxee City, 05001062

[FR Doc. 05-17260 Filed 8-30-05; 8:45 am]

BILLING CODE 4312-51-P